DEPARTMENT OF COMMERCE

International Trade Administration

[A-580-829]

Stainless Steel Wire Rod from the Republic of Korea: Final Results of Antidumping Duty Administrative Review

AGENCY: Import Administration, International Trade Administration, Department of Commerce.

SUMMARY: On June 11, 2007, the Department of Commerce published the preliminary results of the administrative review of the antidumping duty order on stainless steel wire rod from the Republic of Korea. The period of review is September 1, 2005, through August 31, 2006. We did not receive comments from interested parties, nor did we make any changes to the margin for the final results. The final margin for the respondent is listed below in the section entitled “Final Results of Review.”

EFFECTIVE DATE: August 16, 2007.

FOR FURTHER INFORMATION CONTACT: Thomas Schauer, AD/CVD Operations, Office 5, Import Administration, International Trade Administration, U.S. Department of Commerce, 14th Street and Constitution Avenue, NW., Washington, DC 20230, telephone: (202) 482-0410.

SUPPLEMENTARY INFORMATION:

Background

On June 11, 2007, the Department of Commerce (the Department) published the preliminary results of the administrative review of the antidumping duty order on stainless steel wire rod (SSWR) from the Republic of Korea. See Stainless Steel Wire Rod from the Republic of Korea: Preliminary Results of Antidumping Duty Administrative Review, 72 FR 32074 (June 11, 2007) (Preliminary Results). We invited interested parties to comment on the Preliminary Results. We did not receive comments from interested parties, and we did not make any changes to the margin for the final results. The Department has conducted this administrative review in accordance with section 751 of the Tariff Act of 1930, as amended (the Act).

Scope of the Order

For purposes of this order, the products covered are those SSWR that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling annealing, and/or pickling and/or descaling, are normally sold in coiled form, and are of solid cross-section. The majority of SSWR sold in the United States is round in cross-sectional shape, annealed and pickled, and later cold-finished into stainless steel wire or small-diameter bar. The most common size for such products is 5.5 millimeters or 0.217 inches in diameter, which represents the smallest size that normally is produced on a rolling mill and is the size that most wire-drawing machines are set up to draw. The range of SSWR sizes normally sold in the United States is between 0.20 inches and 1.312 inches in diameter.

Two stainless steel grades are excluded from the scope of the order. SF20T and K-M35FL are excluded. The chemical makeup for the excluded grades is as follows:

SF20T
Carbon | 0.05 max |  | Chromium | 19.00/21.00
Manganese | 2.00 max |  | Molybdenum | 1.50/2.50
Phosphorous | 0.05 max |  | Lead-added | (0.10/0.30)
Sulfur | 0.15 max |  | Tellurium-added | (0.03 min)
Silicon | 1.00 max

K-M35FL
Carbon | 0.015 max |  | Nickel | 0.30 max
Silicon | 0.70/1.00 |  | Chromium | 12.50/14.00
Manganese | 0.40 max |  | Lead | 0.10/0.30
Phosphorous | 0.04 max |  | Aluminum | 0.20/0.35
Sulfur | 0.03 max

The products subject to the order are currently classifiable under subheadings 7221.00.0005, 7221.00.0015, 7221.00.0030, 7221.00.0045, and 7221.00.0075 of the Harmonized Tariff Schedule of the United States (HTSUS). Although the HTSUS subheadings are provided for convenience and customs purposes, the written description of the scope of the order is dispositive.

Facts Available

For these final results, we continue to find that Changwon Specialty Steel Co., Ltd. (Changwon), and Dongbang Special Steel Co., Ltd. (Dongbang), and all of their affiliates (collectively, the respondent¹) did not act to the best of their ability to participate in this review by not submitting a response to our antidumping duty questionnaire, thus withholding information necessary to calculate an accurate dumping margin and information which we requested. Accordingly, we continue to find that the use of adverse facts available is warranted under section 776 of the Act. For a detailed discussion of our application, selection, and corroboration of the rate we selected as adverse facts available, see the Preliminary Results, 72 FR at 32075.

¹ We collapsed Changwon and Dongbang in the less-than-fair-value investigation and in every subsequent review of this order because we found "a close supplier relationship between the entities." See, e.g., Notice of Final Determination of Sales at Less Than Fair Value: Stainless Steel Wire Rod From Korea, 63 FR 40404, 40405 (July 29, 1998).

Final Results of Review

As a result of our review, we determine that a weighted-average dumping margin of 28.44 percent exists for the respondent for the period September 1, 2005, through August 31, 2006.

Duty Assessment and Cash-Deposit Requirements

The Department will determine, and the U.S. Bureau of Customs and Border Protection (CBP) shall assess, antidumping duties on all appropriate entries. Because we are applying adverse facts available to all exports of subject merchandise produced or exported by the respondent, we will instruct CBP to assess the final percentage margin against the entered customs values on all applicable entries during the period of review. The Department will issue appropriate assessment instructions directly to CBP within 15 days of publication of these final results of review.

The following deposit requirements will be effective upon publication of these final results of this administrative review for all shipments of SSWR from the Republic of Korea entered, or withdrawn from warehouse, for consumption on or after the publication date of the final results, as provided by section 751(a)(2)(C) of the Act: (1) The cash-deposit rate for the respondent will be 28.44 percent; (2) for merchandise exported by producers or exporters that were previously reviewed or investigated, the cash deposit will continue to be the most recent rate published in the final determination or final results for which the producer or exporter received an individual rate; (3) if the exporter is not a firm covered in this review, a prior review, or the original less-than-fair-value investigation but the manufacturer is, the cash-deposit rate will be the rate established for the most recent period for the manufacturer of the subject merchandise; and (4) if neither the exporter nor the manufacturer is a firm covered in this or any previous review, the cash-deposit rate shall be 5.77 percent, the all-others rate established in the less-than-fair-value investigation, as adjusted in a subsequent remand redetermination. See Stainless Steel Wire Rod From Korea: Amendment of Final Determination of Sales at Less Than Fair Value Pursuant to Court Decision, 66 FR 41550 (August 8, 2001). These cash-deposit requirements shall remain in effect until further notice.

Notification to Importers

This notice serves as a final reminder to importers of their responsibility under 19 CFR 351.402(f) to file a certificate regarding the reimbursement of antidumping duties prior to liquidation of the relevant entries during the review period. Failure to comply with this requirement could result in the Secretary's presumption that reimbursement of antidumping duties occurred and the subsequent assessment of double antidumping duties.

Notification Regarding Administrative Protective Order

This notice also serves as a reminder to parties subject to administrative protective orders (APO) of their responsibility concerning the disposition of proprietary information disclosed under APO as explained in the administrative protective order itself. Timely written notification of the return/destruction of APO materials or conversion to judicial protective order is hereby requested. Failure to comply with the regulations and terms of an APO is a sanctionable violation.

These final results of administrative review and notice are issued and published in accordance with sections 751(a)(1) and 777(i)(1) of the Act.

Dated: August 9, 2007.
Joseph A. Spetrini,
Deputy Assistant Secretary for Import Administration.

[FR Doc. E7-16156 Filed 8-15-07; 8:45 am]

BILLING CODE 3510-DS-S